DEPARTMENT OF TRANSPORTATION

Federal Motor Carrier Safety Administration

[Docket No. FMCSA-2016-0209]

Qualification of Drivers; Exemption Applications; Vision

AGENCY: Federal Motor Carrier Safety Administration (FMCSA), DOT.

ACTION: Notice of applications for exemptions; request for comments.

SUMMARY: FMCSA announces receipt of applications from 12 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before November 10, 2016. All comments will be investigated by FMCSA. The exemptions will be issued the day after the comment period closes.

ADDRESSES: You may submit comments bearing the Federal Docket Management System (FDMS) Docket No. FMCSA-2016-0209 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Ms. Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 12 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Robert A. Andersen

Mr. Andersen, 81, has a prosthetic left eye due to a traumatic incident in 2011. The visual acuity in his right eye is 20/25, and in his left eye, no light perception. Following an examination in 2016, his ophthalmologist stated, “Mr. Andersen functions well with activities of daily living including but not limited to sufficient vision to perform the driving tasks required to operate a commercial vehicle.” Mr. Andersen reported that he has driven straight trucks for 64 years, accumulating 30 million miles, and tractor-trailer combinations for 58 years, accumulating 5.6 million miles. He holds a Class A CDL from California. His driving record for the last 3 years shows no crashes and no convictions for moving violations in a CMV.

Daniel L. Bawden

Mr. Bawden, 71, has had amblyopia in his left eye since birth. The visual acuity in his right eye is 20/20, and in his left eye, 20/300. Following an examination in 2016, his optometrist stated, “In my professional opinion, the scotoma in his left eye is so small that he can safely operate a commercial vehicle.” Mr. Bawden reported that he has driven straight trucks for 7 years, accumulating 21,000 miles, and tractor-trailer combinations for 43 years, accumulating 3.2 million miles. He holds a Class A CDL from Illinois. His driving record for the last 3 years shows no crashes and no convictions for moving violations in a CMV.

Kelly L. Ewing

Mr. Ewing, 47, has had complete loss of vision in his left eye due to a traumatic incident in 1999. The visual acuity in his right eye is 20/20, and in his left eye, no light perception. Following an examination in 2016, his optometrist stated, “In my medical opinion, I do believe that Mr. [sic] Ewing has sufficient vision to perform the driving tasks required of him to operate a commercial vehicle.” Mr. Ewing reported that he has driven straight trucks for 30 years, accumulating 150,000 miles, and tractor-trailer combinations for 23 years, accumulating 548,550 miles. He holds an operator's license from Pennsylvania. His driving record for the last 3 years shows no crashes and no convictions for moving violations in a CMV.

Joseph G. Fischer

Mr. Fischer, 52, has a corneal scar in his left eye due to a traumatic incident in 2013. The visual acuity in his right eye is 20/15, and in his left eye, count fingers. Following an examination in 2016, his ophthalmologist stated, “I believe Mr. Fischer is capable to return to work as a commercial driver despite the vision impairment of the left eye.” Mr. Fischer reported that he has driven straight trucks for 33 years, accumulating 495,000 miles. He holds a Class A CDL from Missouri. His driving record for the last 3 years shows no crashes and no convictions for moving violations in a CMV.

Nylo K. Helberg

Mr. Helberg, 26, has had amblyopia in his left eye since childhood. The visual acuity in his right eye is 20/20, and in his left eye, 20/100. Following an examination in 2016, his optometrist stated, “In my opinion, his condition will not affect his ability to safely operate a commercial vehicle.” Mr. Helberg reported that he has driven straight trucks for 4 years, accumulating 240,000 miles. He holds an operator's license from North Dakota. His driving record for the last 3 years shows no crashes and no convictions for moving violations in a CMV.

J. Willard Keener

Mr. Keener, 58, has had strabismus in his right eye since childhood. The visual acuity in his right eye is hand motion, and in his left eye, 20/20. Following an examination in 2016, his optometrist stated, “In my opinion, Mr. Keener has sufficient vision to perform the driving tasks required to operate a commercial vehicle.” Mr. Keener reported that he has driven straight trucks for 30 years, accumulating 360,000 miles. He holds an operator's license from Pennsylvania. His driving record for the last 3 years shows no crashes and no convictions for moving violations in a CMV.

Billy R. McLaurin

Mr. McLaurin, 69, has had a retinal scar in his right eye since childhood. The visual acuity in his right eye is 20/400, and in his left eye, 20/30. Following an examination in 2016, his ophthalmologist stated, “In conclusion, it is my opinion that the ophthalmic findings in the above gentleman's right eye are chronic and stable and do not seem to significantly impact his capacity to operate a commercial vehicle.” Mr. McLaurin reported that he has driven buses for 19 years, accumulating 141,246 miles. He holds a Class CB CDL from Delaware. His driving record for the last 3 years shows no crashes and no convictions for moving violations in a CMV.

Jason R. Raml

Mr. Raml, 37, has had amblyopia in his left eye since childhood. The visual acuity in his right eye is 20/20, and in his left eye, 20/400. Following an examination in 2016, his optometrist stated, “I feel that Jason has sufficient vision to safely operate a commercial vehicle.” Mr. Raml reported that he has driven straight trucks for 25 years, accumulating 75,000 miles, and tractor-trailer combinations for 12 years, accumulating 85,000 miles. He holds a Class A CDL from South Dakota. His driving record for the last 3 years shows no crashes and no convictions for moving violations in a CMV.

Alfred L. Robinson

Mr. Robinson, 59, has had a prosthetic left eye since childhood. The visual acuity in his right eye is 20/20, and in his left eye, no light perception. Following an examination in 2016, his optometrist stated, “If correctable to 20/20 in the right eye and 150 degree field of vision satisfies your requirements to be able to operate a commercial vehicle, then Alfred L. Robinson meets those requirements.” Mr. Robinson reported that he has driven straight trucks for 15 years, accumulating 135,000 miles, and tractor-trailer combinations for 15 years, accumulating 180,000 miles. He holds a Class A CDL from Arkansas. His driving record for the last 3 years shows no crashes and no convictions for moving violations in a CMV.

Jerry L. Smith

Mr. Smith, 52, has had a prosthetic right eye since childhood. The visual acuity in his right eye is no light perception, and in his left eye, 20/20. Following an examination in 2016, his optometrist stated, “I certify that in Dr. Timothy Wilson's medical opinion, Jerry L. Smith has sufficient vision to perform the driving tasks required to operate a commercial vehicle.” Mr. Smith reported that he has driven straight trucks for 15 years, accumulating 450,000 miles, and tractor-trailer combinations for 15 years, accumulating 450,000 miles. He holds a Class A M2 CDL from Virginia. His driving record for the last 3 years shows no crashes and no convictions for moving violations in a CMV.

Danny R. Tate

Mr. Tate, 39, has a prosthetic left eye due to a traumatic incident in 2007. The visual acuity in his right eye is 20/20, and in his left eye, no light perception. Following an examination in 2016, his optometrist stated, “It is my opinion that he has sufficient vision to safely perform the driving tasks required to operate a commercial vehicle without restriction.” Mr. Tate reported that he has driven straight trucks for 15 years, accumulating 165,000 miles. He holds an operator's license from Virginia. His driving record for the last 3 years shows no crashes and no convictions for moving violations in a CMV.

Larry K. Zielinski

Mr. Zielinski, 69, has age related macular degeneration in his right eye since 2006. The visual acuity in his right eye is counting fingers, and in his left eye, 20/20. Following an examination in 2016, his ophthalmologist stated, “In my medical opinion, Larry Zielinski has sufficient vision to perform the driving tasks required to operate a commercial vehicle.” Mr. Zielinski reported that he has driven tractor-trailer combinations for 45 years, accumulating 1.8 million miles. He holds a Class A CDL from Oregon. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2016-0209 in the “Keyword” box, and click “Search. When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period. FMCSA may issue a final determination at any time after the close of the comment period.

Viewing Comments and Documents

To view comments, as well as documents mentioned in this preamble as being available in the docket, go to http://www.regulations.gov and insert the docket number FMCSA-2016-0209 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: September 29, 2016.
Larry W. Minor,
Associate Administrator for Policy.

[FR Doc. 2016-24452 Filed 10-7-16; 8:45 am]

BILLING CODE 4910-EX-P